DEPARTMENT OF AGRICULTURE

National Institute of Food and Agriculture

Request for Public Comments on Proposed Collection of Information

AGENCY: National Institute of Food and Agriculture, USDA.

ACTION: Request for Public Comments on Proposed Collection of Information.

SUMMARY: In accordance with the Paperwork Reduction Act (44 U.S.C. Chapter 35, as amended) and Office of Management and Budget (OMB) implementing regulations (5 CFR part 1320), this notice announces the National Institute of Food and Agriculture's (NIFA) proposed collection of information for the application for Non-Land Grant College of Agriculture designation. NIFA intends to submit the following information collection request to OMB for review and approval under the Paperwork Reduction Act.

DATES: Written comments should be submitted by October 3, 2014, to be assured of consideration. Comments received after that date will be considered to the extent practicable.

ADDRESSES: You may submit comments, identified by the docket number by any of the following methods:

• Federal eRulemaking Portal: http://www.regulations.gov, docket number NIFA-2014-0002. Follow the instructions for submitting comments.

• Email: rmartin@nifa.usda.gov. Include the docket number in the subject line of the message.

• Fax: 202-720-0857.

• Mail: Robert Martin, Records Officer, Office of Information Technology (OIT), NIFA, USDA, STOP 2216, 1400 Independence Avenue SW., Washington, DC 20250-2216.

• Hand Delivery/Courier: Office of Information Technology (OIT), National Institute of Food and Agriculture, USDA, 800 9th Street SW., STOP 2201 Washington, DC 20250-2201.

FOR FURTHER INFORMATION CONTACT: Robert Martin, Records Officer; Email: rmartin@nifa.usda.gov.

SUPPLEMENTARY INFORMATION: Title: Application for Non-Land Grant College of Agriculture certification.

OMB Number: 0524— New.

Type of Request: Notice; Request for Public Comments on Proposed Collection of Information.

Abstract: NIFA is responsible for designating Non-Land Grant Colleges of Agriculture (NLGCAs). Section 7101 of the Agricultural Act of 2014 (Pub. L. 113-79) required NIFA to establish an ongoing process allowing public colleges and universities that offer 4-year or higher degrees in the food and agricultural sciences to apply for designation as NLGCA Institutions. For additional information see “Process for Non-Land Grant College of Agriculture (NLGCA) Designation” 79 FR 29398 (May 22, 2014).

Type of Information Collection: NIFA will collect this information through web-based data collection. Institutions seeking designation as a NLGCA will submit requested information about their institution through a web-based form. The information collected from each institution will allow NIFA to verify that the institution is a public college or university, offers a baccalaureate or higher degree in food and agricultural sciences, as defined in 7 U.S.C. 3103(9), and is not otherwise ineligible to be designated as an NLGCA.

Frequency: Institutions seeking designation as an NLGCA must apply one time. Their designation will be valid until September 30, 2018. Upon expiration of their designation, reapplication may be required.

Affected Public: Institutions that meet the criteria for NLGCA designation; public colleges and universities that offer 4-year or higher degrees in the food and agricultural sciences.

Estimate of Burden: NIFA estimates that the time required to complete the web-based application form will be approximately 15 minutes. The information that is required includes minimal information about the institution. The total annual burden for the application to request designation as a NLGCA is 18.75 hours for a projected 75 applicants.

Comment Request: Comments are invited on whether the proposed collection of information is necessary for the proper performance of the functions of the Agency, including whether the information will have practical utility; the accuracy of the Agency's estimate of the burden of the proposed collection of information; ways to enhance the quality, utility, and clarity of the information to be collected; and ways to minimize the burden of the collection of information on respondents, including the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Robert Martin as directed above.

Done at Washington, DC, this 21st day of July, 2014.
Ann M. Bartuska,
Deputy Under Secretary, Research, Education, and Economics.

[FR Doc. 2014-18320 Filed 8-1-14; 8:45 am]

BILLING CODE 3410-22-P